FEDERAL COMMUNICATIONS COMMISSION

47 CFR Part 73

[DA 03-1224; MM Docket No. 00-69, RM-9850, RM-9945, RM-9946]

Radio Broadcasting Services; Bear Lake, Bellaire, Cheboygan, Ludington, Manistique, Onaway, Rapid River, Rogers City, and Walhalla, MI

AGENCY: Federal Communications Commission.

ACTION: Final rule, denial.

SUMMARY: This document grants, in part, a Petition for Reconsideration filed Northern Radio of Michigan, Inc., and denies a Petition for Reconsideration by Fort Bend Broadcasting Company both directed to the Report and Order in this proceeding which denied a Counterproposal filed by the former licensee of Station WSRQ in this proceeding. Fort Bend Broadcasting Company is now the licensee of Station WSRQ. In that Counterproposal, the former licensee proposed the substitution of Channel 260C1 for Channel 260A at Bear Lake, Michigan, reallotment of Channel 260C1 to Bellaire, Michigan, and modification of the Station WSRQ license to specify operation on Channel 260C1 at Bellaire. In order to replace the loss of the sole local service at Bear Lake, the former licensee proposed a Channel 291A allotment as a replacement service. The Report and Order determined that there was no suitable site for the Channel 291A allotment at Bear Lake and denied the Counterproposal. See 67 FR 38206, June 3, 2002. Specifically, this document modifies the Report and Order to the extent of determining that there was a suitable transmitter site for a Channel 291A allotment at Bear Lake and a Channel 260C1 allotment at Bellaire would not comply with Section 73.315(a) of the Rules. With this action, the proceeding is terminated.

FOR FURTHER INFORMATION CONTACT: Robert Hayne, Media Bureau (202) 418-2177.

SUPPLEMENTARY INFORMATION: This is a synopsis of the Commission's Memorandum Opinion and Order in MM Docket No. 00-69, adopted April 28, 2003, and released April 30, 2003. The full text of this decision is available for inspection and copying during normal business hours in the FCC Reference Information Center at Portals ll, CY-A257, 445 12th Street, SW, Washington, D.C. The complete text of this decision may also be purchased from the Commission's copy contractor, Qualex International, Portals II, 445 12th Street, SW., Room CY-B402, Washington, DC 20554, telephone (202) 863-2893, facsimile (202) 863-2898, or via e-mail qualixint@aol.com.

Federal Communications Commission.
John A. Karousos,
Assistant Chief, Audio Division, Media Bureau.

[FR Doc. 03-13071 Filed 5-23-03; 8:45 am]

BILLING CODE 6712-01-P